DEPARTMENT OF THE INTERIOR

Bureau of Land Management

[AK-020-1610-DP-088L]

Announcement That BLM-Alaska Has Discontinued Its Planning Efforts for the South Portion of the National Petroleum Reserve—Alaska Integrated Activity Plan and Environmental Impact Statement

AGENCY: Bureau of Land Management, Interior.

ACTION: Notice of intent to discontinue planning efforts for the South NPR-A.

SUMMARY: The Bureau of Land Management (BLM), Alaska State Office, is discontinuing preparation of the Integrated Activity Plan (IAP) for the South portion of the National Petroleum Reserve—Alaska (NPR-A) and its accompanying Environmental Impact Statement (EIS).

DATES: Planning activities will officially cease with publication of this notice.

FOR FURTHER INFORMATION, CONTACT: Bob Schneider (907-474-2216), Lon Kelly (907-474-2368) or Mike Kleven (907-474-2317) by phone or by mail at 1150 University Avenue, Fairbanks Alaska, 99708-3844.

SUPPLEMENTARY INFORMATION: The planning area for the South NPR-A Integrated Activity Plan/Environmental Impact Statement includes approximately 9.2 million acres within the southwestern portion of the National Petroleum Reserve—Alaska. The planning effort was initiated with a Notice of Intent to Plan published June 15, 2005. Although the formal scoping period ended in August 2005 and a scoping report was finalized in November of 2005, further development of the plan was suspended to allow the North Slope Borough (a cooperating agency) to develop a “community-based” management alternative. As part of its effort, the Borough conducted several public meetings and submitted a Community Based Planning Report to the BLM in January 2007. Evident from the Borough's report and the BLM's own scoping efforts is the high level of concern on the part of North Slope residents regarding the potential impacts of oil and gas activity on subsistence resources, especially the Western Arctic Caribou Herd, whose primary calving area is within the South NPR-A planning area. The Bureau's resource assessments indicate that the South NPR-A planning area contains limited oil reserves—approximately 2.1 percent of the undiscovered oil in the NPR-A. Although the area contains an estimated 27 percent of the NPR-A's undiscovered gas reserves, there is no transportation system to move the gas to market.

The BLM places great emphasis on public participation during land use planning and has listened carefully to the concerns of the people of Alaska's North Slope. In consideration of these concerns and the practicality of energy development, the BLM is discontinuing the South NPR-A planning effort at this time.

Sharon K. Wilson,
Acting State Director.

[FR Doc. E7-18267 Filed 9-14-07; 8:45 am]

BILLING CODE 4310-JA-P